NUCLEAR REGULATORY COMMISSION

[NRC-2015-0171]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from June 25, 2015, to July 8, 2015. The last biweekly notice was published on July 7, 2015.

DATES: Comments must be filed by August 20, 2015. A request for a hearing must be filed by September 21, 2015.

ADDRESSES: You may submit comments by any of the following methods (unless this document describes a different method for submitting comments on a specific subject):

• Federal Rulemaking Web site: Go to http://www.regulations.gov and search for Docket ID NRC-2015-0171. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Lynn Ronewicz, U.S. Nuclear Regulatory Commission, Washington DC 20555-0001; telephone: 301-415-1927, email: Lynn.Ronewicz@nrc.gov.

SUPPLEMENTARY INFORMATION:

I. Obtaining Information and Submitting Comments

A. Obtaining Information

Please refer to Docket ID NRC-2015-0171 when contacting the NRC about the availability of information for this action. You may obtain publicly-available information related to this action by any of the following methods:

• Federal rulemaking Web site: Go to http://www.regulations.gov and search for Docket ID NRC-2015-0171.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2015-0171, facility name, unit number(s), application date, and subject in your comment submission.

The NRC cautions you not to include identifying or contact information that you do not want to be publicly disclosed in your comment submission. The NRC will post all comment submissions at http://www.regulations.gov, as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in Section 50.92 of Title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the Internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nr.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8:00 a.m. and 8:00 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, MD 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

Dominion Nuclear Connecticut, Inc. (DNC), Docket No. 50-336, Millstone Power Station, Unit No. 2 (MPS2), New London County, Connecticut

Date of amendment request: March 2, 2015. A publicly-available version is in ADAMS under Accession No. ML15069A226.

Description of amendment request: The amendment would revise Technical Specification (TS) 6.19, “Containment Leakage Rate Testing Program,” for MPS2. Specifically, DNC proposes to: (1) Revise the definition of Pa [peak calculated primary containment internal pressure] in TS 6.19 that was introduced into the TSs in License Amendment 203 to be consistent with the Pa value in TSs 3.6.1.2 and 3.6.1.3, and (2) revise the acceptance criteria for leakage rate testing of containment air lock door seals to substitute the use of the makeup flow method in lieu of the pressure decay method currently used at MPS2.

Basis for proposed no significant hazards consideration determination: As required by 10 CFR 50.91(a), the licensee has provided its analysis of the issue of no significant hazards consideration, which is presented below:

Criterion 1

[Does the] proposed amendment involve a significant increase in the probability or consequences of an accident previously evaluated?

Response: No.

This proposed license amendment would revise the definition of Pa that was introduced into TS 6.19 under License Amendment 203 to be consistent with the Pa value in TSs 3.6.1.2 and 3.6.1.3. The design basis accident remains unchanged for the postulated events described in the MPS2 Final Safety Analysis Report (FSAR). Since the initial conditions and assumptions included in the safety analyses are unchanged, the consequences of the postulated events remain unchanged. Therefore, the proposed amendment does not involve a significant increase in the probability or consequences of an accident previously evaluated.

The proposed amendment [would] also revise the method of surveillance for leakage rate testing of the containment air lock door seals. The makeup flow method will continue to provide assurance that the containment leakage rate is within the limits assumed in the radiological consequences analysis of the design basis accident, therefore, the proposed amendment does not involve a significant increase in the probability or consequences of an accident previously evaluated.

Criterion 2

[Does the] proposed amendment create the possibility for a new or different kind of accident from any accident previously evaluated?

Response: No.

The proposed amendment would: (1) Revise the definition of Pa in TS 6.19 to be consistent with the Pa value in TSs 3.6.1.2 and 3.6.1.3, and (2) revise the method of surveillance for leakage rate testing of the containment air lock door seals. The proposed amendment does not change the way the plant is operated and does not involve a physical alteration of the plant. No new or different types of equipment will be installed and there are no physical modifications to existing equipment associated with the proposed amendment. Similarly, the proposed amendment would not physically change any plant systems, structures, or components involved in the mitigation of any postulated accidents. Thus, no new initiators or precursors of a new or different kind of accident are created.

Furthermore, the proposed amendment does not create the possibility of a new failure mode associated with any equipment or personnel failures.

Therefore, the proposed amendment would not create the possibility of a new or different kind of accident from any previously evaluated.

Criterion 3

[Does the] proposed amendment involve a significant reduction in the margin of safety?

Response: No.

The proposed amendment would: (1) Revise the definition of Pa in TS 6.19 to be consistent with the Pa value in TSs 3.6.1.2 and 3.6.1.3, and (2) revise the method of surveillance for leakage rate testing of the containment air lock door seals. The proposed amendment does not represent any physical change to plant systems, structures, or components, or to procedures established for plant operation. The proposed amendment does not affect the inputs or assumptions of any of the design basis analyses and current design limits will continue to be met. Since the proposed amendment does not affect the assumptions or consequences of any accident previously analyzed, there is no significant reduction in the margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

Acting NRC Branch Chief: Michael I. Dudek.

Dominion Nuclear Connecticut, Inc., Docket Nos. 50-336 and 50-423, Millstone Power Station, Unit Nos. 2 and 3, New London County, Connecticut

Date of amendment request: January 15, 2015, as supplemented on April 15, 2015. A publicly-available version is in ADAMS under Accession Nos. ML15021A128 and ML15111A449, respectively.

Description of amendment request: The proposed amendments would revise or add Surveillance Requirements to verify that the system locations susceptible to gas accumulation are sufficiently filled with water and to provide allowances which permit performance of the verification to the Technical Specifications. The changes are being made to address the concerns discussed in Generic Letter 2008-01, “Managing Gas Accumulation in Emergency Core Cooling, Decay Heat Removal, and Containment Spray Systems.” The proposed amendments would be consistent with Technical Specification Task Force Traveler-523, Revision 2, Generic Letter 2008-01, “Managing Gas Accumulation.”

Basis for proposed no significant hazards consideration determination: As required by 10 CFR 50.91(a), the licensee has provided its analysis of the issue of no significant hazards consideration, which is presented below:

Criterion 1

Does the proposed amendment involve a significant increase in the probability or consequences of an accident previously evaluated?

Response: No.

The proposed change revises or adds Surveillance Requirements (SRs) that require verification that the Emergency Core Cooling System (ECCS), Shutdown Cooling (SDC) System, and the Containment Spray System are not rendered inoperable due to accumulated gas and to provide allowances which permit performance of the revised verification. Gas accumulation in the subject systems is not an initiator of any accident previously evaluated. As a result, the probability of any accident previously evaluated is not significantly increased. The proposed SRs ensure that the subject systems continue to be capable to perform their assumed safety function and are not rendered inoperable due to gas accumulation. Thus, the consequences of any accident previously evaluated are not significantly increased.

Therefore, the proposed change does not involve a significant increase in the probability or consequences of an accident previously evaluated.

Criterion 2

Does the proposed amendment create the possibility for a new or different kind of accident from any accident previously evaluated?

Response: No.

The proposed change revises or adds SRs that require verification that the ECCS, SDC and the Containment Spray Systems are not rendered inoperable due to accumulated gas and provide allowances which permit performance of the revised verification. The proposed change does not involve a physical alteration of the plant (i.e., no new or different type of equipment will be installed) or a change in the methods governing normal plant operation. In addition, the proposed change does not impose any new or different requirements that could initiate an accident. The proposed change does not alter assumptions made in the safety analysis and is consistent with the safety analysis assumptions.

Therefore, the proposed change does not create the possibility of a new or different kind of accident from any accident previously evaluated.

Criterion 3

Does the proposed amendment involve a significant reduction in the margin of safety?

Response: No.

The proposed change revises or adds SRs that require verification that the ECCS, SDC and the Containment Spray Systems are not rendered inoperable due to accumulated gas and provide allowances which permit performance of the revised verification. The proposed change adds new requirements to manage gas accumulation in order to ensure the subject systems are capable of performing their assumed safety functions. The proposed SRs are more comprehensive than the current SRs and will ensure that the assumptions of the safety analysis are protected. The proposed change does not adversely affect any current plant safety margins or the reliability of the equipment assumed in the safety analysis.

Therefore, there are no changes being made to any safety analysis assumptions, safety limits or limiting safety system settings that would adversely affect plant safety as a result of the proposed change.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

Acting NRC Branch Chief: Michael I. Dudek.

Duke Energy Florida, Inc. (DEF), et al., Docket No. 50-302, Crystal River Unit 3 Nuclear Generating Plant (CR-3), Citrus County, Florida

Date of amendment request: May 7, 2015. A publicly-available version is in ADAMS under Accession No. ML15134A160.

Description of amendment request: The amendment would revise Technical Specifications 5.1.1, 5.2.1.b, 5.3.2, and 5.6.2.3 by changing the title of the position with overall responsibility for the safe handling and storage of nuclear fuel and licensee initiated changes to the Offsite Dose Calculation Manual (ODCM) from either the Plant Manager or the Decommissioning Director to the General Manager Decommissioning.

Basis for proposed no significant hazards consideration determination: As required by 10 CFR 50.91(a), the licensee has provided its analysis of the issue of no significant hazards consideration, with NRC staff revisions provided in [brackets], which is presented below:

Criterion 1

Does the proposed amendment involve a significant increase in the probability or consequences of an accident previously evaluated?

Response: No.

The consolidation of Plant Manager and Decommissioning Director to General Manager Decommissioning changes to the Administrative Controls sections of the CR-3 Improved Technical Specifications has no effect on the performance of these defined responsibilities. The overall responsibility for these Administrative Controls sections remains at the same level or higher: (1) Delegating in writing the succession to this responsibility during any absence; (2) approving, prior to implementation, any change to tests, experiments or modifications to systems or equipment that affect stored nuclear fuel; (3) ensuring the acceptable performance of the staff involved in operating, maintaining, and providing technical support to ensure the safe handling and storage of the nuclear fuel; (4) ensuring that the training and retraining of the Certified Fuel Handler positions are in accordance with the applicable standards; and (5) ensuring that any licensee initiated changes to the ODCM are effective only after acceptance by the General Manager Decommissioning.

The proposed CR-3 ITS [Improved Technical Specifications] Administrative Controls sections consolidation of Plant Manager and Decommissioning Director to General Manager Decommissioning are administrative in nature, and have no direct effect on any plant system, the operation and maintenance of CR-3 or any previously evaluated accident.

These changes reflect DEF hierarchical changes associated with CR-3 decommissioning and placing the unit in the permanently defueled safe storage condition.

Criterion 2

Does the proposed amendment create the possibility of a new or different kind of accident from any accident previously evaluated?

Response: No.

The proposed CR-3 ITS Administrative Controls sections consolidation of Plant Manager and Decommissioning Director to General Manager Decommissioning are administrative in nature, and have no direct effect on any plant system, the operation and maintenance of CR-3 or any previously evaluated accident. The consolidation of Plant Manager and Decommissioning Director to General Manager Decommissioning changes to the Administrative Controls sections of the CR-3 ITS have no effect on the performance of these previously delineated responsibilities. The overall responsibility for these Administrative Controls sections remains at the same level or higher.

These changes reflect DEF hierarchical changes associated with CR-3 decommissioning and placing the unit in the permanently defueled safe storage condition.

Criterion 3

Does the proposed amendment involve a significant reduction in a margin of safety?

Response: No.

The proposed CR-3 ITS Administrative Controls sections consolidation of Plant Manager and Decommissioning Director to General Manager Decommissioning are administrative in nature, have no direct effect on any plant system, does not involve any physical plant limits or parameters, License Condition, Technical Specification Limiting Condition of Operability, or operating philosophy, and therefore cannot affect any margin of safety.

The consolidation of Plant Manager and Decommissioning Director to General Manager Decommissioning changes to the Administrative Controls sections of the CR-3 ITS have no effect on the performance of these previously delineated responsibilities. The overall responsibility for these Administrative Controls sections remains at the same level or higher.

These changes reflect DEF hierarchical changes associated with CR-3 decommissioning and placing the unit in the permanently defueled safe storage condition.

Therefore, a no significant hazards consideration conclusion is reached.

The NRC staff has reviewed the licensee's analysis and, based on this review, it appears that the three standards of 50.92(c) are satisfied. Therefore, the NRC staff proposes to determine that the amendment request involves no significant hazards consideration.

Attorney for licensee: Lara S. Nichols, 550 South Tryon Street, Charlotte NC 28202.

NRC Branch Chief: Meena K. Khanna.

Duke Energy Progress Inc., Docket No. 50-400, Shearon Harris Nuclear Power Plant, Unit 1, New Hill, North Carolina

Date of amendment request: April 30, 2015. A publicly-available version is in ADAMS under Accession No. ML15126A117.

Description of amendment request: The amendment would revise the emergency plan by changing the emergency action levels from a scheme based upon Revision 5 of Nuclear Energy Institute (NEI)-99-01, “Methodology for Development of Emergency Action Levels,” to one based upon Revision 6 of NEI 99-01, “Development of Emergency Action Levels for Non-Passive Reactors.” The NRC formally endorsed NEI 99-01, Revision 6, in a letter dated March 28, 2013 (ADAMS Accession No. ML12346A463).

Basis for proposed no significant hazards consideration determination: As required by 10 CFR 50.91(a), the licensee has provided its analysis of the issue of no significant hazards consideration, which is presented below:

(1) Does the proposed amendment involve a significant increase in the probability or consequences of an accident previously evaluated?

These changes affect the HNP [Shearon Harris Nuclear Power Plant] Emergency Plan and do not alter any of the requirements of the Operating License or the Technical Specifications. The proposed changes do not reduce the effectiveness of the HNP Emergency Plan or the HNP Emergency Response Organization. The proposed changes do not modify any plant equipment and do not impact any failure modes that could lead to an accident. Additionally, the proposed changes do not impact the consequence of any analyzed accident since the changes do not affect any equipment related to accident mitigation.

Based on this discussion, the proposed amendment does not increase the probability or consequences of an accident previously evaluated.

(2) Does the proposed amendment create the possibility of a new or different kind of accident from any accident previously evaluated?

These changes affect the HNP Emergency Plan and do not alter any of the requirements of the Operating License or the Technical Specifications. These changes do not modify any plant equipment and there is no impact on the capability of the existing equipment to perform their intended functions. No system setpoints are being modified and no changes are being made to the method in which plant operations are conducted. No new failure modes are introduced by the proposed changes. The proposed amendment does not introduce accident initiator or malfunctions that would cause a new or different kind of accident.

Therefore, the proposed amendment does not create the possibility of a new or different kind of accident from any accident previously evaluated.

(3) Does the proposed amendment involve a significant reduction in a margin of safety?

These changes affect the HNP Emergency Plan and do not alter any of the requirements of the Operating License or the Technical Specifications. The proposed changes do not affect any of the assumptions used in the accident analysis, nor do they affect any operability requirements for equipment important to plant safety.

Therefore, the proposed changes will not result in a significant reduction in the margin of safety as defined in the bases for Technical Specifications covered in this license amendment request.

The NRC staff has reviewed the licensee's analysis and, based on this review, it appears that the three standards of 10 CFR 50.92(c) are satisfied. Therefore, the NRC staff proposes to determine that the amendment request involves no significant hazards consideration.

Attorney for licensee: Lara S. Nichols, Deputy General Counsel, Duke Energy Corporation, 550 South Tyron Street, Mail Code DEC45A, Charlotte, NC 28202.

NRC Branch Chief: Shana R. Helton.

Southern Nuclear Operating Company, Inc., Docket Nos. 52-025 and 52-026, Vogtle Electric Generating Plant, Units 3 and 4, Burke County, Georgia

Date of amendment request: May 7, 2015. A publicly-available version is in ADAMS under Accession No. ML15127A469.

Description of amendment request: The amendment request proposes changes to the Main Control Room Emergency Habitability System (VES) configuration and equipment safety designation. Because this proposed change requires a departure from Tier 1 information in the Westinghouse Advanced Passive 1000 Design Control Document (DCD), the licensee also requested an exemption from the requirements of the Generic DCD Tier 1 in accordance with 10 CFR 52.63(b)(1).

Basis for proposed no significant hazards consideration determination: As required by 10 CFR 50.91(a), the licensee has provided its analysis of the issue of no significant hazards consideration, which is presented below:

1. Does the proposed amendment involve a significant increase in the probability or consequences of an accident previously evaluated?

Response: No.

The design functions of the VES for the main control room (MCR) are to provide breathable air, maintain positive pressurization relative to the outside, provide cooling of MCR equipment and facilities, and provide passive air filtration within the MCR boundary. The VES is designed to satisfy these functions for up to 72 hours following a design basis accident.

The proposed changes to the ASME Code [American Society of Mechanical Engineers Boiler and Pressure Vessel Code] safety classification of components, equipment orientation and configuration, addition and deletion of components, and correction to the number of emergency air storage tanks would not adversely affect any design function. The proposed changes maintain the design function of the VES with safety-related equipment and system configuration consistent with the descriptions in UFSAR [Updated Final Safety Analysis Report] Figure 6.4.2. The proposed changes do not affect the support or operation of mechanical and fluid systems. There is no change to the response of systems to postulated accident conditions. There is no change to the predicted radioactive releases due to postulated accident conditions. The plant response to previously evaluated accidents or external events is not adversely affected, nor do the proposed changes described create any new accident precursors.

Therefore, the proposed amendment does not involve a significant increase in the probability or consequences of an accident previously evaluated.

2. Does the proposed amendment create the possibility of a new or different kind of accident from any accident previously evaluated?

Response: No.

The proposed changes to revise the VES design related to the ASME Code safety classification, equipment orientation and configuration, addition and deletion of components, and correction to the number of emergency air storage tanks maintain consistency with the design function information in the USFAR. The proposed changes do not create a new fault or sequence of events that could result in a radioactive release. The proposed changes would not affect any safety-related accident mitigating function.

Therefore, the proposed changes do not create the possibility of a new or different kind of accident from any previously evaluated.

3. Does the proposed amendment involve a significant reduction in a margin of safety?

Response: No.

The proposed changes do not affect the ability of the VES to maintain the safety-related functions to the MCR. The VES continues to meet the requirements for which it was designed and continues to meet the regulations. No safety analysis or design basis acceptance limit/criterion is challenged or exceeded by the proposed changes, and no margin of safety is reduced.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North, Birmingham, AL 35203-2015.

NRC Branch Chief: Paul Kallan.

Southern Nuclear Operating Company, Inc., Docket Nos. 52-025 and 52-026, Vogtle Electric Generating Plant, Units 3 and 4, Burke County, Georgia

Date of amendment request: April 9, 2015. A publicly-available version is in ADAMS under Accession No. ML5099A568.

Description of amendment request: The amendment request proposes changes to the Class 1E direct current and Uninterruptible Power Supply System, replacing four Spare Termination Boxes with a single Spare Battery Termination Box. Because this proposed change requires a departure from Tier 1 information in the Westinghouse Advanced Passive 1000 Design Control Document (DCD), the licensee also requested an exemption from the requirements of the Generic DCD Tier 1 in accordance with 10 CFR 52.63(b)(1).

Basis for proposed no significant hazards consideration determination: As required by 10 CFR 50.91(a), the licensee has provided its analysis of the issue of no significant hazards consideration, which is presented below:

1. Does the proposed amendment involve a significant increase in the probability or consequences of an accident previously evaluated?

Response: No.

The proposed changes do not affect the operation of any systems or equipment that initiate an analyzed accident or alter any structures, systems, and components (SSC) accident initiator or initiating sequence of events. The [Uninterruptible Power Supply System] IDS design change involves replacing the four Spare Termination Boxes with a single Spare Battery Termination Box, and minor raceway and cable routing changes. The proposed changes maintain the method used to manually connect the Spare Battery Bank and Spare Battery Bank Charger to supply loads of one of the four 24 Hour Battery Switchboards or one of the two 72 Hour Battery Switchboards at a time while maintaining the independence of the IDS divisions. Therefore, the probabilities of the accidents evaluated in the [Updated Final Safety Analysis Report] UFSAR are not affected.

The proposed changes do not have an adverse impact on the ability of the IDS equipment to perform its design functions. The design of the IDS equipment continues to meet the same regulatory acceptance criteria, electrical codes, and standards as required by the UFSAR. Therefore, the proposed changes do not affect the prevention and mitigation of other abnormal events, e.g., accidents, anticipated operational occurrences, earthquakes, floods and turbine missiles, or their safety or design analyses. In addition, the proposed changes do not have an adverse effect on any safety-related SSC or function used to mitigate an accident; therefore, the consequences of the accidents evaluated in the UFSAR are not affected.

Therefore, the proposed changes do not involve a significant increase in the probability or consequences of an accident previously evaluated.

2. Does the proposed amendment create the possibility of a new or different kind of accident from any accident previously evaluated?

Response: No.

The proposed changes do not change the design functions of IDS or any of the systems or equipment in the plant. The IDS design change involves replacing the four Spare Termination Boxes with a single Spare Battery Termination Box, and minor raceway and cable routing changes, and the electrical equipment continues to perform its design functions because the same electrical codes and standards as stated in the UFSAR continue to be met. The proposed changes maintain the method used to manually connect the Spare Battery Bank and Spare Battery Bank Charger to supply loads of one of the four 24 Hour Battery Switchboards or one of the two 72 Hour Battery Switchboards at a time while maintaining the independence of the IDS divisions.

These proposed changes do not adversely affect any IDS or SSC design functions or methods of operation in a manner that results in a new failure mode, malfunction, or sequence of events that affect safety-related or non-safety-related equipment. Therefore, this activity does not allow for a new fission product release path, result in a new fission product barrier failure mode, or create a new sequence of events that result in significant fuel cladding failures.

Therefore, the proposed changes do not create the possibility of a new or different kind of accident from any previously evaluated.

3. Does the proposed amendment involve a significant reduction in a margin of safety?

Response: No.

The proposed changes maintain existing safety margins. The proposed changes do not result in changes to the IDS design requirements or design functions. The proposed changes maintain existing safety margin through continued application of the existing requirements of the UFSAR. Therefore, the proposed changes satisfy the same design functions in accordance with the same codes and standards as stated in the UFSAR. These proposed changes do not affect any design code, function, design analysis, safety analysis input or result, or design/safety margin.

Because no safety analysis or design basis acceptance limit/criterion is challenged or exceeded by these proposed changes, no margin of safety is reduced.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

Acting NRC Branch Chief: Paul Kallan.

Southern Nuclear Operating Company, Inc., Docket Nos. 50-424 and 50-425, Vogtle Electric Generating Plant, Units 1 and 2 (VEGP), Burke County, Georgia

Date of amendment request: May 19, 2015. A publicly-available version is in ADAMS under Accession No. ML15139A578.

Description of amendment request: The licensee submitted a license amendment request (LAR) proposing to revise the minimum indicated nitrogen cover pressure required per Technical Specification (TS) Surveillance Requirement (SR) 3.5.1.3 from the current requirement of 626 pounds per square inch gauge (psig) back to the previous requirement of 617 psig. The values for the nitrogen cover pressure specified in SR 3.5.1.3 are indicated values as read on the main control board (MCB) indication. As noted in the LAR, the minimum nitrogen cover pressure was previously revised from 617 psig to 626 psig. That revision was requested as an interim measure to compensate for an increase in the uncertainty associated with the accumulator nitrogen cover pressure indication instrumentation, from the transmitter to the MCB indication. That uncertainty was attributed to a specific production batch of Veritrak/Tobar transmitters which shown to exhibit a temperature compensation shift effect of 1.58 percent. Of the 16 pressure transmitters installed in VEGP, 15 were Veritrak/Tobar transmitters. A conservative decision was made to increase the TS minimum indicated value. Subsequent to the issuance of that amendment, the higher uncertainty transmitters were replaced with a different model. As a result of the transmitter replacement, the uncertainty of the affected instrumentation was restored to the value assumed in the Westinghouse accident analysis. Therefore, a decrease of the indicated minimum nitrogen pressure value specified in the TS is requested.

Basis for proposed no significant hazards consideration determination: As required by 10 CFR 50.91(a), the licensee has provided its analysis of the issue of no significant hazards consideration, which is presented below:

1. Does the proposed change involve a significant increase in the probability or consequences of an accident previously evaluated?

Response: No.

The proposed amendment revises the minimum nitrogen cover pressure specified for the accumulators in SR 3.5.1.3 from 626 psig to 617 psig. The accumulators are not a precursor to any accident previously evaluated. The accumulators are used to mitigate the consequences of accidents previously evaluated. The proposed change does not affect the probability or the consequences of any accident previously evaluated.

Therefore, it is concluded that the proposed change does not involve a significant increase in the probability or consequences of an accident previously evaluated.

2. Does the proposed change create the possibility of a new or different kind of accident from any accident previously evaluated?

Response: No.

The proposed change revises the minimum nitrogen cover pressure specified for the accumulators in SR 3.5.1.3 from 626 psig to 617 psig. The proposed change does not involve a physical alteration of the plant (no new or different type of equipment will be installed) or a change in the methods governing normal plant operation. The proposed change to the requirements of the TS assures that the acceptance limits of the accumulators with respect to assumptions in the LOCA [loss-of-coolant-accident] analyses continue to be met. The proposed change does not adversely affect the design function or operation of any structures, systems, and components important to safety.

Therefore, it is concluded that the proposed change does not create the possibility of a new or different kind of accident from any previously evaluated.

3. Does the proposed change involve a significant reduction in a margin of safety?

Response: No.

The proposed change revises the minimum nitrogen cover pressure specified for the accumulators in SR 3.5.1.3 from 626 psig to 617 psig. The proposed change to the indicated accumulator nitrogen cover pressure provides assurance that the requirements of the TS continue to bound the acceptance limits of the accumulators with respect to the assumptions in the LOCA analyses. Thus the proposed change to the accumulator minimum nitrogen cover pressure assures the existing margin of safety is maintained.

Therefore, it is concluded that the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jennifer M. Buettner, Associate General Counsel, Southern Nuclear Operating Company, 40 Inverness Center Parkway, Birmingham, AL 35201.

NRC Branch Chief: Robert J. Pascarelli.

STP Nuclear Operating Company, Docket Nos. 50-498 and 50-499, South Texas Project, Units 1 and 2, Matagorda County, Texas

Date of amendment request: April 29, 2015. A publicly-available version is in ADAMS under Accession No. ML15127A260.

Description of amendment request: The amendment would revise the South Texas Project Electric Generation Station Updated Final Safety Analysis Report (UFSAR) Table 15.6-17 to correct errors introduced in UFSAR Revisions 16 and 17.

Basis for proposed no significant hazards consideration determination: As required by 10 CFR 50.91(a), the licensee has provided its analysis of the issue of no significant hazards consideration, which is presented below:

1. The proposed changes do not involve a significant increase in the probability or consequences of an accident previously evaluated.

The proposed change of correcting UFSAR Table 15.6-17 does not involve physical modifications to plant equipment and does not change the operational methods or procedures. The proposed change does not affect any of the parameters or conditions that could contribute to the initiation of any accidents. Since [design basis accident (DBA)] initiators are not being altered by adoption of the proposed change, the probability of an accident previously evaluated is not affected. The safety margins and analytical conservatisms associated with the [Alternate Source Term (AST)] methodology have been evaluated and were found acceptable. The results of the revised DBA analyses, performed in support of the AST methodology change, are subject to specific acceptance criteria as specified in [Regulatory Guide (RG) 1.183, “Alternative Radiological Source Terms for Evaluating Design Basis Accidents at Nuclear Power Reactors,” July 2000; ADAMS Accession No. ML003716792]. The dose consequences resulting from these DBAs remain within the acceptance criteria presented in 10 CFR 50.67 and RG 1.183. The proposed change of correcting UFSAR Table 15.6-17 does not change the analytical results of the previously approved AST methodology change.

Based on the above discussion, the proposed change does not involve a significant increase in the probability or consequences of an accident previously evaluated.

2. The proposed changes do not create the possibility of a new or different kind of accident from any accident previously evaluated.

The proposed change is administrative in nature and does not require any physical changes to any structures, systems or components involved in the mitigation of any accidents. No new initiators or precursors of a new or different kind of accident are created. No new equipment or personnel failure modes that might initiate a new type of accident are created as a result of the proposed change.

Based on the above discussion, the proposed change does not create the possibility of a new or different kind of accident from any accident previously evaluated.

3. The proposed change does not involve a significant reduction in a margin of safety.

The proposed change is administrative in nature and does not result in a significant reduction in the margin of safety. The safety margins and analytical conservatisms associated with the AST methodology were evaluated and found acceptable. The results of the revised DBA analyses, performed in support of the proposed change, are subject to specific acceptance criteria as specified in RG 1.183. The dose consequences resulting from these DBAs remain within the acceptance criteria presented in 10 CFR 50.67 and RG 1.183. The proposed change continues to ensure that the dose results at the exclusion area boundary (EAB) and low population zone boundary (LPZ), as well as the Control Room and TSC [Technical Support Center], are within the specified regulatory limits.

Based on the above discussion, the proposed change does not involve a significant reduction in a margin of safety.

The NRC staff has reviewed the licensee's analysis and, based on this review, it appears that the standards of 10 CFR 50.92(c) are satisfied. Therefore, the NRC staff proposes to determine that the request for amendments involves no significant hazards consideration.

Attorney for licensee: Steve Frantz, Esq., Morgan, Lewis & Bockius, 1111 Pennsylvania Avenue NW., Washington, DC 20004.

NRC Branch Chief: Michael M. Markley.

Virginia Electric and Power Company, Docket No. 50-339, North Anna Power Station, Unit No. 2, Louisa County, Virginia

Date of amendment request: May 22, 2015. A publicly-available version is in ADAMS under Accession No. ML15147A029.

Description of amendment request: The proposed license amendment would revise Technical Specification 3.8.1, “AC Sources—Operating,” to delete Note 1 to Surveillance Requirement (SR) 3.8.1.8 to remove the limitation that excludes Unit 2 from the verification test requirement.

Basis for proposed no significant hazards consideration determination: As required by 10 CFR 50.91(a), the licensee has provided its analysis of the issue of no significant hazards consideration, which is presented below:

1. Does the proposed change involve a significant increase in the probability or consequences of an accident previously evaluated?

Response: No.

The previously evaluated accident that could be affected is a complete loss of offsite power (LOOP). Analyses have been performed to confirm that power distribution system voltages and currents with both of the new Unit 2 alternate normal to emergency bus ties in service are adequate during a Unit trip scenario. The conditions under which the Unit 2 manual transfer capability is verified are the same as Unit 1. The verification test may only be performed under conditions that will not challenge steady state operation or challenge the safety of the Unit. Therefore, the Unit 2 verification test (manual transfer between Unit 2 normal offsite circuit and alternate required offsite circuit) will not significantly increase the probability of a LOOP.

Once a LOOP has occurred, the consequences are unaffected by availability of offsite power (normal offsite circuit and alternate required offsite circuit). Therefore, the Unit 2 verification test (normal offsite circuit and alternate required offsite circuit) will not affect the consequences of an accident previously evaluated.

Based on this discussion, the proposed amendment does not increase the probability or consequences of an accident previously evaluated.

2. Does the proposed change create the possibility of a new or different kind of accident from any accident previously evaluated?

Response: No.

The purpose of the surveillance test is to verify the capability to manually transfer AC [alternating current] power sources from the normal offsite circuit to the alternate required offsite circuit. The only effect of the change is to permit the new Unit 2 required offsite circuits to be tested in the same manner and frequency as the corresponding Unit 1 circuits. Since the Unit 2 circuits are similar to the Unit 1 circuits, and the Unit 1 test is a required TS Surveillance to demonstrate operability of the alternate offsite circuits, permitting the Unit 2 circuits to undergo the same Surveillance test will not create the possibility of a new or different kind of accident from any accident previously evaluated.

Therefore, the proposed amendment does not create the possibility of a new or different kind of accident from any accident previously evaluated.

3. Does the proposed change involve a significant reduction in a margin of safety?

Response: No.

The proposed change enables SR testing of the new Unit 2 alternate offsite AC circuits to verify the capability to manually transfer AC power sources from the normal offsite circuit to the alternate required offsite circuit.

The margin of safety is related to the confidence in the ability of the fission product barriers to perform their design functions during and following an accident situation. These barriers include the fuel cladding, the reactor coolant system, and the containment system. The proposed change does not directly affect these barriers, nor does it involve any adverse impact on the Class 1E circuits or SSCs [systems, structures, and components] supplied by Class 1E power.

Therefore, the proposed change will not involve a significant reduction in a margin of safety.

The NRC staff has reviewed the licensee's analysis and, based on this review, it appears that the three standards of 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

NRC Branch Chief: Robert J. Pascarelli.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Carolinas, LLC, Docket Nos. 50-269, 50-270, and 50-287, Oconee Nuclear Station, Units 1, 2 and 3, Oconee County, South Carolina

Date of amendment request: March 14, 2014.

Brief description of amendments: The amendments revised the Oconee Nuclear Station Technical Specifications (TSs) for the Inservice Testing Program to reflect the current edition of the American Society of Mechanical Engineers (ASME) Code that is referenced in 10 CFR 50.55a(b).

Date of Issuance: July 7, 2015.

Effective date: As of the date of issuance and shall be implemented within 120 days from the date of issuance.

Amendment Nos.: 393, 395, and 394. A publicly-available version is in ADAMS under Accession No. ML15174A267; documents related to these amendments are listed in the Safety Evaluation enclosed with the amendments.

Renewed Facility Operating License Nos. DPR-38, DPR-47, and DPR-55: The amendments revised the Renewed Facility Operating Licenses and TSs.

Date of initial notice in Federal Register: March 31, 2015 (80 FR 17086).

The Commission's related evaluation of the amendments is contained in a Safety Evaluation dated July 7, 2015.

No significant hazards consideration comments received: No.

Duke Energy Progress, Inc., Docket No. 50-400, Shearon Harris Nuclear Power Plant, Unit 1, Wake and Chatham Counties, North Carolina

Date of amendment request: June 19, 2014, as supplemented by letters dated October 23, 2014; November 13, 2014; January 30, 2015; May 13, 2015; and June 30, 2015.

Brief description of amendment: The amendment modifies Technical Specifications Table 3.3-4, “Engineered Safety Features Actuation System Instrumentation,” revising the Functional Unit 9.a, “Loss-of-Offsite Power 6.9 kV Emergency Bus Undervoltage—Primary,” instrumentation trip setpoint and associated allowable value, and adding two notes regarding channel setpoint surveillance.

Date of issuance: June 30, 2015.

Effective date: As of the date of issuance and shall be implemented within 120 days of issuance.

Amendment No.: 146. A publicly-available version is in ADAMS under Accession No. ML15163A056; documents related to this amendment are listed in the Safety Evaluation enclosed with the amendment.

Facility Operating License No. NPF-63 The amendment revised the Renewed Facility Operating License and Technical Specifications.

Date of initial notice in Federal Register: September 2, 2014 (79 FR 52061). The supplemental letters dated October 23, 2014; November 13, 2014; January 30, 2015; May 13, 2015; and June 30, 2015, provided additional information that clarified the application, did not expand the scope of the application as originally noticed, and did not change the staff's original proposed no significant hazards consideration determination as published in the Federal Register.

The Commission's related evaluation of the amendment is contained in a Safety Evaluation dated June 30, 2015.

No significant hazards consideration comments received: No.

Exelon Generation Company, LLC and PSEG Nuclear LLC, Docket Nos. 50-277 and 50-278, Peach Bottom Atomic Power Station, Units 2 and 3, York and Lancaster Counties, Pennsylvania

Date of amendment request: July 10, 2014, as supplemented by letter dated March 23, 2015.

Brief description of amendments: The amendments revised and added Technical Specification (TS) surveillance requirements to address the concerns discussed in Generic Letter 2008-01, “Managing Gas Accumulation in Emergency Core Cooling, Decay Heat Removal, and Containment Spray Systems,” dated January 11, 2008. The TS changes are based on TS Task Force Traveler-523, Revision 2, “Generic Letter 2008-01, Managing Gas Accumulation,” dated February 21, 2013.

Date of issuance: June 30, 2015.

Effective date: As of the date of issuance, to be implemented by May 31, 2016.

Amendments Nos.: 297 and 300. A publicly-available version is in ADAMS under Accession No. ML15154A614; documents related to these amendments are listed in the Safety Evaluation enclosed with the amendments.

Renewed Facility Operating License Nos. DPR-44 and DPR-56: The amendments revised the Facility Operating Licenses and the TSs.

Date of initial notice in Federal Register: September 2, 2014 (79 FR 52063). The supplemental letter dated March 23, 2015, provided additional information that clarified the application, did not expand the scope of the application as originally noticed, and did not change the staff's original proposed no significant hazards consideration determination as published in the Federal Register.

The Commission's related evaluation of the amendments is contained in a Safety Evaluation dated June 30, 2015.

No significant hazards consideration comments received: No.

Exelon Generation Company, LLC, Docket Nos. 50-220 and 50-410, Nine Mile Point Nuclear Station, Units 1 and 2, Oswego County, New York

Date of amendment request: September 11, 2014, as supplemented by letter dated November 10, 2014.

Brief description of amendment: The amendments revised the Technical Specifications (TSs) on licensed operator training and qualification education and experience eligibility requirements.

Date of issuance: July 8, 2015.

Effective date: As of the date of issuance and shall be implemented within 60 days of issuance.

Amendment Nos.: 218 and 148. A publicly-available version is in ADAMS under Accession No. ML15167A315; documents related to these amendments are listed in the Safety Evaluation enclosed with the amendments.

Renewed Facility Operating License Nos. DPR-63 and NPF-69: The amendments revised the Renewed Facility Operating Licenses and TSs.

Date of initial notice in Federal Register: November 25, 2014 (79 FR 70215). The supplemental letter dated November 10, 2014, provided additional information that clarified the application, did not expand the scope of the application as originally noticed, and did not change the staff's original proposed no significant hazards consideration determination as published in the Federal Register.

The Commission's related evaluation of the amendment is contained in a Safety Evaluation dated July 8, 2015.

No significant hazards consideration comments received: No.

Exelon Generation Company, LLC, Docket No. 50-289, Three Mile Island Nuclear Station, Unit 1 (TMI-1), Dauphin County, Pennsylvania

Date of amendment request: July 10, 2014, as supplemented by letter dated May 7, 2015.

Brief description of amendment: The amendment revised the TMI-1 Technical Specifications (TSs). Specifically, the amendment modified TMI-1 TSs to address NRC Generic Letter 2008-01, “Managing Gas Accumulation in Emergency Core Cooling, Decay Heat Removal, and Containment Spray Systems,” as described in Technical Specification Task Force Traveler 523, Revision 2, “Generic Letter 2008-01, Managing Gas Accumulation.”

Date of issuance: June 30, 2015.

Effective date: As of the date of issuance and shall be implemented within 120 days of issuance.

Amendment No.: 285. A publicly-available version is in ADAMS under Accession No. ML15121A589; documents related to this amendment are listed in the Safety Evaluation (SE) enclosed with the amendment.

Renewed Facility Operating License No. DPR-50. The amendment revised the Facility Operating License and TSs.

Date of initial notice in Federal Register: September 2, 2014 (79 FR 52063). The supplemental letter dated May 7, 2015, provided additional information that clarified the application, did not expand the scope of the application as originally noticed, and did not change the staff's original proposed no significant hazards consideration determination as published in the Federal Register.

The Commission's related evaluation of the amendment is contained in an SE dated June 30, 2015.

No significant hazards consideration comments received: No.

Omaha Public Power District, Docket No. 50-285, Fort Calhoun Station (FCS), Unit No. 1, Washington County, Nebraska

Date of amendment request: August 16, 2013, as supplemented by letters dated August 13, 2014, and February 13 and March 24, 2015.

Brief description of amendment: The amendment revised the design basis method in the FCS Updated Safety Analysis Report (UFSAR) for controlling the raw water intake cell level during periods of elevated river levels.

Date of issuance: June 30, 2015.

Effective date: As of the date of issuance and shall be implemented within 180 days from the date of issuance.

Amendment No.: 282. A publicly-available version is in ADAMS under Accession No. ML15111A399; documents related to this amendment are listed in the Safety Evaluation (SE) enclosed with the amendment.

Renewed Facility Operating License No. DPR-40: The amendment revised the license and the design basis as described in the UFSAR.

Date of initial notice in Federal Register: March 18, 2014 (79 FR 15149). The supplemental letters dated August 13, 2014, and February 13 and March 24, 2015, provided additional information that clarified the application, did not expand the scope of the application as originally noticed, and did not change the staff's original proposed no significant hazards consideration determination as published in the Federal Register.

The Commission's related evaluation of the amendment is contained in an SE dated June 30, 2015.

No significant hazards consideration comments received: No.

Pacific Gas and Electric Company, Docket Nos. 50-275 and 50-323, Diablo Canyon Nuclear Power Plant, Unit Nos. 1 and 2 (DCPP), San Luis Obispo County, California

Date of amendment request: March 27, 2014, as supplemented by letters dated February 19 and April 29, 2015.

Brief description of amendments: The amendments revised various technical specification (TS) surveillance requirements associated with the DCPP emergency diesel generators (DGs). The changes reflect the results of a revised load study analysis, as well as a revision to the DG 30-minute load rating. These changes were submitted to address multiple issues identified by NRC and licensee investigations, and are intended to correct various non-conservative TS values associated with DG testing.

Date of issuance: July 1, 2015.

Effective date: As of the date of issuance and shall be implemented within 240 days from the date of issuance.

Amendment Nos.: 218 and 220. A publicly-available version is in ADAMS under Accession No. ML15162A882; documents related to these amendments are listed in the Safety Evaluation enclosed with the amendments.

Facility Operating License Nos. DPR-80 and DPR-82: The amendments revised the Facility Operating Licenses and TSs.

Date of initial notice in Federal Register: August 19, 2014 (79 FR 49109). The supplemental letters dated February 19 and April 29, 2015, provided additional information that clarified the application, did not expand the scope of the application as originally noticed, and did not change the staff's original proposed no significant hazards consideration determination as published in the Federal Register.

The Commission's related evaluation of the amendments and public comment is contained in a Safety Evaluation dated July 1, 2015.

No significant hazards consideration comments received: Yes.

Southern Nuclear Operating Company, Docket Nos. 52-025 and 52-026, Vogtle Electric Generating Plant, Units 3 and 4, Burke County, Georgia

Date of amendment request: January 30, 2015, as supplemented by letter dated March 20, 2015.

Brief description of amendment: The license amendment revised the Combined Licenses by revising Tier 2 * information contained within the Human Factors Engineering Design Verification, Task Support Verification, and Integrated System Validation plans. These documents are incorporated by reference in the Updated Final Safety Analysis Report.

Date of issuance: June 11, 2015.

Effective date: As of the date of issuance and shall be implemented within 30 days of issuance.

Amendment No.: 35. A publicly-available version is in ADAMS under Accession No. ML15141A449; documents related to these amendments are listed in the Safety Evaluation enclosed with the amendments.

Facility Combined Licenses Nos. NPF-91 and NPF-92: The amendments revised the Facility Combined Licenses.

Date of initial notice in Federal Register: March 17, 2015 (80 FR 13902). The supplemental letter dated March 20, 2015, provided additional information that did not expand the scope of the amendment request and did not change the NRC staff's original proposed no significant hazards consideration determination.

The Commission's related evaluation of the amendment is contained in a Safety Evaluation dated June 11, 2015.

No significant hazards consideration comments received: No.

Virginia Electric and Power Company, Docket Nos. 50-280 and 50-281, Surry Power Station, Unit Nos. 1 and 2, Surry County, Virginia

Date of amendment request: June 3, 2014, as supplemented by letter dated February 4, 2015.

Brief description of amendments: The amendments revised Technical Specification (TS) Figures 3.1-1 and 3.1-2, “Surry Units 1 and 2 Reactor Coolant System Heatup Limitations,” and “Surry Units 1 and 2 Reactor Coolant System Cooldown Limitations,” respectively, for clarification and to be fully representative of the allowable operating conditions during Reactor Coolant System (RCS) startup and cooldown evolutions. The revisions to TS Figures 3.1-1 and 3.1-2 include: (1) The extension of the temperature axes to reflect temperatures up to RCS full power operation; (2) the extension of the pressure axes to less than 0 pounds per square inch gage to bound RCS conditions when vacuum-assist fill of the RCS loops is performed; and (3) the addition of information regarding the reactor boltup temperature.

Date of issuance: June 26, 2015.

Effective date: As of its date of issuance and shall be implemented within 30 days of issuance.

Amendment Nos.: 285 and 285. A publicly-available version is in ADAMS under Accession No. ML15173A102.

Renewed Facility Operating License Nos. DPR-32 and DPR-37: The amendments revised the Renewed Facility Operating Licenses and the TSs.

Date of initial notice in Federal Register: September 30, 2014 (79 FR 58812). The supplemental letter dated February 4, 2015, provided additional information that clarified the application, did not expand the scope of the application as originally noticed, and did not change the staff's original proposed no significant hazards consideration determination as published in the Federal Register.

The Commission's related evaluation of the amendments is contained in a Safety Evaluation dated June 26, 2015.

No significant hazards consideration comments received: No.

Dated at Rockville, Maryland, this 10th day of July, 2015.
For the Nuclear Regulatory Commission.
A. Louise Lund,
Acting Director, Division of Operating Reactor Licensing, Office of Nuclear Reactor Regulation.

[FR Doc. 2015-17651 Filed 7-20-15; 8:45 am]

BILLING CODE 7590-01-P